DEPARTMENT OF THE INTERIOR

Bureau of Indian Affairs

[16X/A11220000.224100/AAK4004800/AX.480ADM100000]

Rate Adjustments for Indian Irrigation Projects

AGENCY: Bureau of Indian Affairs, Interior.

ACTION: Notice of rate adjustments.

SUMMARY: The Bureau of Indian Affairs (BIA) owns, or has an interest in, irrigation projects located on or associated with various Indian reservations throughout the United States. We are required to establish irrigation assessment rates to recover the costs to administer, operate, maintain, and rehabilitate these projects. We are notifying you that we have adjusted the irrigation assessment rates at several of our irrigation projects and facilities to reflect current costs of administration, operation, maintenance, and rehabilitation.

DATES: The irrigation assessment rates are current as of January 1, 2015.

FOR FURTHER INFORMATION CONTACT: For details about a particular BIA irrigation project or facility, please use the tables in the SUPPLEMENTARY INFORMATION section to contact the regional or local office where the project or facility is located.

SUPPLEMENTARY INFORMATION: A Notice of Proposed Rate Adjustment was published in the Federal Register on June 11, 2015 (80 FR 33279) to propose adjustments to the irrigation assessment rates at several BIA irrigation projects. The public and interested parties were provided an opportunity to submit written comments during the 60-day period that ended August 10, 2015.

Did BIA defer or change any proposed rate increases?

Yes. Rate increases were deferred on the Crow Irrigation Project—Two Leggins Unit and the Wind River Irrigation Project—Riverton Valley Irrigation District.

Did BIA receive any comments on the proposed irrigation assessment rate adjustments?

Yes. The BIA received sixteen (16) letters with comments. All comments received were associated with the Flathead Indian Irrigation Project's (FIIP) proposed rate adjustment for Calendar Year (CY) 2016.

What issues were of concern to the commenters?

Comments received relate specifically to the proposed rate increase for CY 2016 and other activities associated only with the FIIP.

The BIA's summary of commenters' issues and BIA's response are provided below.

Comment: Three commenters requested the rate increase be postponed until:

—Two court cases (one case in State court challenging an alleged illegal vote of the state legislature and one case in Federal court concerning the re-assumption of operations and maintenance of the FIIP by the Bureau of Indian Affairs) are resolved.

—The Confederated and Salish and Kootenai Tribes (CSKT) Water Compact is ratified by Congress.

—Western Montana is no longer in a federally designated “Severe Drought” condition.

Response: The final rate for the FIIP in 2016 will remain the same as 2015.

Comment: How can the request for increased rates be warranted when those alleging the need are not fully qualified to do so?

Response: The final rate for the FIIP in 2016 will remain the same as 2015.

Comment: The BIA Solicitor's Office spent large amounts of Cooperative Management Entity (CME) O&M funds traveling back and forth from Portland, OR and Washington, DC to Montana, conducting private meetings while the project manager was spending a large amount of O&M funds on unjustifiable purchases of heavy equipment.

Response: The CME O&M funds were never spent for Office of the Solicitor travel expenses or conducting meetings. Travel costs associated with non-FIIP employees are not included in the FIIP's 2016 budget and are not part of the 2016 rate assessment or any potential future O&M rate increases.

Comment: The recent request for an extra $7 per acre for this year (nearly a 30 percent increase) was accompanied by no supporting data explaining and justifying the increase.

Response: The final rate for the FIIP in 2016 will remain the same as 2015.

Does this notice affect me?

This notice affects you if you own or lease land within the assessable acreage of one of our irrigation projects or if you have a carriage agreement with one of our irrigation projects.

Where can I get information on the regulatory and legal citations in this notice?

You can contact the appropriate office(s) stated in the tables for the irrigation project that serves you, or you can use the Internet site for the Government Printing Office at www.gpo.gov.

What authorizes you to issue this notice?

Our authority to issue this notice is vested in the Secretary of the Interior by (Secretary) 5 U.S.C. 301 and the Act of August 14, 1914 (38 Stat. 583; 25 U.S.C. 385). The Secretary has in turn delegated this authority to the Assistant Secretary—Indian Affairs under Part 209, Chapter 8.1A, of the Department of the Interior's Departmental Manual.

Whom can I contact for further information?

The following tables are the regional and project/agency contacts for our irrigation facilities.

Project name | Project/Agency contacts
Northwest Region Contacts
Stanley Speaks, Regional Director, Bureau of Indian Affairs, Northwest Regional Office, 911 NE. 11th Avenue, Portland, OR 97232-4169, Telephone: (503) 231-6702.
Flathead Indian Irrigation Project | Ernest Moran, Superintendent, Pete Plant, Irrigation Project Manager, P.O. Box 40, Pablo, MT 59855, Telephones: (406) 675-2700 ext. 1300 Superintendent, (406) 745-2661 ext. 2 Project Manager.
Fort Hall Irrigation Project | David Bollinger, Irrigation Project Manager, Building #2 Bannock Ave., Fort Hall, ID 83203-0220, Telephone: (208) 238-6264.
Wapato Irrigation Project | David Shaw, Superintendent, Larry Nelson, Acting Project Administrator, P.O. Box 220, Wapato, WA 98951-0220, Telephones: (509) 865-2421, Superintendent, (509) 877-3155 Acting Project Administrator.
Rocky Mountain Region Contacts
Darryl LaCounte, Regional Director, Bureau of Indian Affairs, Rocky Mountain Regional Office, 316 North 26th Street, Billings, MT 59101, Telephone: (406) 247-7943.
Blackfeet Irrigation Project | Thedis Crowe, Superintendent, Greg Tatsey, Irrigation Project Manager, Box 880, Browning, MT 59417, Telephones: (406) 338-7544, Superintendent, (406) 338-7519, Irrigation Project Manager.
Crow Irrigation Project | Vianna Stewart, Superintendent, Karl Helvik, Acting Irrigation Project Manager, P.O. Box 69, Crow Agency, MT 59022, Telephones: (406) 638-2672, Superintendent, (406) 247-7469, Acting Irrigation Project Manager.
Fort Belknap Irrigation Project | John St. Pierre, Superintendent, Vacant, Irrigation Project Manager, (Project operation & maintenance contracted to Tribes), R.R.1, Box 980, Harlem, MT 59526, Telephones: (406) 353-2901, Superintendent, (406) 353-8454, Irrigation Project Manager (Tribal Office).
Fort Peck Irrigation Project | Howard Beemer, Superintendent, Huber Wright, Acting Irrigation Project Manager, P.O. Box 637, Poplar, MT 59255, Telephones: (406) 768-5312, Superintendent, (406) 653-1752, Irrigation Project Manager.
Wind River Irrigation Project | Norma Gourneau, Superintendent, Karl Helvik, Acting Irrigation Project Manager, P.O. Box 158, Fort Washakie, WY 82514, Telephones: (307) 332-7810, Superintendent, (307) 247-7469, Acting Irrigation Project Manager.
Southwest Region Contacts
William T. Walker, Regional Director, Bureau of Indian Affairs, Southwest Regional Office, 1001 Indian School Road, Albuquerque, NM 87104, Telephone: (505) 563-3100.
Pine River Irrigation Project | Priscilla Bancroft, Superintendent, Vickie Begay, Irrigation Project Manager, P.O. Box 315, Ignacio, CO 81137-0315, Telephones: (970) 563-4511, Superintendent, (970) 563-9484, Irrigation Project Manager.
Western Region Contacts
Bryan Bowker, Regional Director, Bureau of Indian Affairs, Western Regional Office, 2600 N. Central Ave., 4th Floor Mailroom, Phoenix, AZ 85004, Telephone: (602) 379-6600.
Colorado River Irrigation Project | Kellie Youngbear Superintendent, Gary Colvin, Irrigation Project Manager, 12124 1st Avenue, Parker, AZ 85344, Telephone: (928) 669-7111.
Duck Valley Irrigation Project | Joseph McDade, Superintendent, (Project operation & management compacted to Tribes), 2719 Argent Ave., Suite 4, Gateway Plaza, Elko, NV 89801, Telephone: (775) 738-5165, (208) 759-3100, (Tribal Office).
Yuma Project, Indian Unit | Irene Herder, Superintendent, 256 South Second Avenue, Suite D, Yuma, AZ 85364, Telephone: (928) 782-1202.
San Carlos Irrigation Project Indian Works and Joint Works | Ferris Begay, Project Manager, Clarence Begay, Irrigation Manager, 13805 N. Arizona Boulevard, Coolidge, AZ 85128, Telephone: (520) 723-6225.
Uintah Irrigation Project | Bart Stevens Superintendent, Ken Asay, Irrigation System Manager, P.O. Box 130, Fort Duchesne, UT 84026, Telephone: (435) 722-4300, (435) 722-4344.
Walker River Irrigation Project | Robert Eben, Superintendent, 311 E. Washington Street, Carson City, NV 89701, Telephone: (775) 887-3500.

What irrigation assessments or charges are adjusted by this notice?

The rate table below contains the current rates for all irrigation projects where we recover costs of administering, operating, maintaining, and rehabilitating them. The table also contains the final rates for the CY 2015 and subsequent years where applicable. An asterisk immediately following the rate category notes the irrigation projects where 2015 rates are different from the 2014 rates.

Consultation and Coordination With Tribal Governments (Executive Order 13175)

To fulfill its consultation responsibility to tribes and tribal organizations, BIA communicates, coordinates, and consults on a continuing basis with these entities on issues of water delivery, water availability, and costs of administration, operation, maintenance, and rehabilitation of projects that concern them. This is accomplished at the individual irrigation project by pProject, aAgency, and rRegional representatives, as appropriate, in accordance with local protocol and procedures. This notice is one component of our overall coordination and consultation process to provide notice to, and request comments from, these entities when we adjust irrigation assessment rates.

Actions Concerning Regulations That Significantly Affect Energy Supply, Distribution, or Use (Executive Order 13211)

The rate adjustments will have no adverse effects on energy supply, distribution, or use (including a shortfall in supply, price increases, and increase use of foreign supplies) should the rate adjustments be implemented. This is a notice for rate adjustments at BIA-owned and operated irrigation projects, except for the Fort Yuma Irrigation Project. The Fort Yuma Irrigation Project is owned and operated by the Bureau of Reclamation with a portion serving the Fort Yuma Indian Reservation.

Regulatory Planning and Review (Executive Order 12866)

These rate adjustments are not a significant regulatory action and do not need to be reviewed by the Office of Management and Budget under Executive Order 12866.

Regulatory Flexibility Act

These rate adjustments are not a rule for the purposes of the Regulatory Flexibility Act because they establish “a rule of particular applicability relating to rates.” 5 U.S.C. 601(2).

Unfunded Mandates Reform Act of 1995

These rate adjustments do not impose an unfunded mandate on State, local, or tribal governments in the aggregate, or on the private sector, of more than $130 million per year. The rule does not have a significant or unique effect on State, local, or tribal governments or the private sector. Therefore, the Department is not required to prepare a statement containing the information required by the Unfunded Mandates Reform Act (2 U.S.C. 1531 et seq.).

Takings (Executive Order 12630)

The Department has determined that these rate adjustments do not have significant “takings” implications. The rate adjustments do not deprive the public, state, or local governments of rights or property.

Federalism (Executive Order 13132)

The Department has determined that these rate adjustments do not have significant Federalism effects because they will not affect the States, the relationship between the national government and the States, or the distribution of power and responsibilities among various levels of government.

Civil Justice Reform (Executive Order 12988)

In issuing this rule, the Department has taken the necessary steps to eliminate drafting errors and ambiguity, minimize potential litigation, and provide a clear legal standard for affected conduct, as required by section 3 of Executive Order 12988.

Paperwork Reduction Act of 1995

These rate adjustments do not affect the collections of information which have been approved by the Office of Information and Regulatory Affairs, Office of Management and Budget, under the Paperwork Reduction Act of 1995. The OMB Control Number is 1076-0141 and expires March 31, 2016.

National Environmental Policy Act

The Department has determined that these rate adjustments do not constitute a major Federal action significantly affecting the quality of the human environment and that no detailed statement is required under the National Environmental Policy Act of 1969 (42 U.S.C. 4321-4370(d)).

Data Quality Act

In developing this notice, we did not conduct or use a study, experiment, or survey requiring peer review under the Data Quality Act (Pub. L. 106-554).

Dated: April 20, 2016.
Lawrence S. Roberts,
Acting Assistant Secretary—Indian Affairs.

[FR Doc. 2016-10045 Filed 4-28-16; 8:45 am]

BILLING CODE 4310-W7-P